DEPARTMENT OF COMMERCE

National Oceanic and Atmospheric Administration

50 CFR Part 679

[Docket No. 021212307-3037-3037-02; I.D. 110602C]

Fisheries of the Exclusive Economic Zone Off Alaska; Bering Sea and Aleutian Islands; Final 2003 Harvest Specifications for Groundfish

AGENCY: National Marine Fisheries Service (NMFS), National Oceanic and Atmospheric Administration (NOAA), Commerce.

ACTION: Final 2003 specifications for groundfish and associated management measures; apportionment of reserves; request for comments; closures.

SUMMARY: NMFS announces final 2003 harvest specifications, prohibited species catch (PSC) allowances, and associated management measures for the groundfish fishery of the Bering Sea and Aleutian Islands management area (BSAI). This action is necessary to establish harvest limits and associated management measures for groundfish during the 2003 fishing year and to accomplish the goals and objectives of the Fishery Management Plan for the Groundfish Fishery of the Bering Sea and Aleutian Islands Management Area (FMP). The intended effect of this action is to conserve and manage the groundfish resources in the BSAI.

DATES: The final 2003 harvest specifications and associated apportionment of reserves are effective at 1200 hrs, Alaska local time (A.l.t.), February 25, 2003 through 2400 hrs, A.l.t., December 31, 2003. Comments on the apportionment of reserves must be received by March 18, 2003.

ADDRESSES: Comments on the apportionment of reserves may be sent to Sue Salveson, Assistant Regional Administrator, Sustainable Fisheries Division, Alaska Region, NMFS, P.O. Box 21668, Juneau, AK 99802-1668, Attn: Lori Durall. Comments also may be sent via facsimile (fax) to 907-586-7557. Comments will not be accepted if submitted via e-mail or Internet. Courier or hand delivery of comments may be made to NMFS in the Federal Building, Room 453, 709 West 9th Street, Juneau, AK 99801.

Copies of the Final Environmental Assessment (EA) and Final Regulatory Flexibility Analysis (FRFA) prepared for this action and the Final 2002 Stock Assessment and Fishery Evaluation (SAFE) report, dated November 2002, are available from the North Pacific Fishery Management Council, West 4th Avenue, Suite 306, Anchorage, AK 99510-2252 (907-271-2809).

FOR FURTHER INFORMATION CONTACT: Mary Furuness, 907-586-7228 or e-mail mary.furuness@noaa.gov.

SUPPLEMENTARY INFORMATION:

Background for the 2003 Final Harvest Specifications

Federal regulations at 50 CFR part 679 that implement the FMP govern the groundfish fisheries in the BSAI. The Council prepared the FMP and NMFS approved it under the Magnuson-Stevens Fishery Conservation and Management Act. General regulations governing U.S. fisheries also appear at 50 CFR part 600.

The FMP and its implementing regulations require NMFS, after consultation with the Council, to specify annually the total allowable catch (TAC) for each target species and for the “other species” category, the sum of which must be within the optimum yield range of 1.4 million to 2.0 million metric tons (mt) (§ 679.20(a)(1)(i)). Also specified are apportionments of TACs, and Community Development Quota (CDQ) reserve amounts, prohibited species quota (PSQ) reserves, and PSC allowances. Regulations at § 679.20(c)(3) further require NMFS to consider public comment on the proposed annual TACs and apportionments thereof and the proposed PSC allowances, and to publish final specifications in the Federal Register. The final specifications set forth in Tables 1 through 17 of this action satisfy these requirements. For 2003, the sum of TACs is 2 million mt.

The proposed BSAI groundfish specifications and PSC allowances for the groundfish fishery of the BSAI were published in the Federal Register on December 12, 2002 (67 FR 76362). Comments were invited and accepted through January 13, 2003. NMFS received one comment on the proposed specifications. This comment is summarized and responded to in the Response to Comments section. Public consultation with the Council occurred during the December 2002 Council meeting in Anchorage, AK. After considering public comments, as well as biological and economic data that were available at the Council's December meeting, NMFS is implementing the final 2003 groundfish specifications as recommended by the Council.

Regulations at § 679.20(c)(2)(ii) establish the interim amounts of each proposed initial TAC (ITAC) and allocations thereof, of each CDQ reserve established by § 679.20(b)(1)(iii), and of the proposed PSQ reserves and PSC allowances established by § 679.21 that become available at 0001 hours, A.l.t., January 1, and remain available until superseded by the final specifications. NMFS published the interim 2003 groundfish harvest specifications in the Federal Register on December 26, 2002 (67 FR 78739). Regulations at § 679.20(c)(2)(ii) do not provide for an interim specification for either the hook-and-line and pot gear sablefish CDQ reserve or for sablefish managed under the Individual Fishing Quota (IFQ) management plan. The final 2003 groundfish harvest specifications, PSQ reserves and PSC allowances contained in this action supersede the interim 2003 groundfish harvest specifications.

Implementation of Steller Sea Lion Conservation Measures

In accordance with a biological opinion issued by NMFS on October 19, 2001, NMFS implemented a final rule for the start of the 2003 BSAI groundfish fisheries (68 FR 204, January 2, 2003), that contains measures that were deemed necessary to avoid the likelihood that the pollock, Pacific cod, and Atka mackerel fisheries off Alaska would jeopardize the continued existence of the western population of Steller sea lions or adversely modify its critical habitat. The final rule implements three types of management measures for the pollock, Pacific cod and Atka mackerel fisheries of the BSAI: (1) Measures to temporally disperse fishing effort, (2) measures to spatially disperse fishing effort, and (3) measures to provide sufficient protection from competition with pollock fisheries for prey in waters immediately adjacent to rookeries and important haulouts.

The final rule establishes a Steller Sea Lion Conservation Area (SCA) to regulate total removals of pollock in an area considered to be critical to the recovery of the endangered western population of Steller sea lions. The final rule restricts pollock harvests within the SCA to a percentage of each sector's seasonal allocation as recommended by the Council.

On December 18, 2002, the United States District Court for the Western District of Washington entered an Order remanding the October 19, 2001, biological opinion prepared for the groundfish fisheries. Greenpeace, et al. v. National Marine Fisheries Service, No. C98-492Z (W.D. Wash.). The Court held that the biological opinion's findings of no jeopardy to the continued existence of endangered Steller sea lions and no adverse modification of their critical habitat were arbitrary and capricious. NMFS reached an agreement with the Plaintiffs that the 2003 groundfish fisheries will commence pursuant to the Steller sea lion protection measures examined in the biological opinion pending completion of the remand. The Court issued an order on December 30, 2002, that supported the agreement and extended the effective date of the 2001 Steller sea lion protection measures biological opinion until June 30, 2003.

Acceptable Biological Catch (ABC) and TAC Specifications

The final ABC levels are based on the best available scientific information, including projected biomass trends, information on assumed distribution of stock biomass, and revised technical methods used to calculate stock biomass. The FMP specifies the formulas, or tiers, to be used in computing ABCs and overfishing levels (OFLs). The formulas applicable to a particular stock or stock complex are determined by the level of reliable information available to fishery scientists. This information is categorized into a successive series of six tiers.

At its December 2002 meeting, the Scientific and Statistical Committee (SSC), Advisory Panel (AP), and Council reviewed current biological information about the condition of groundfish stocks in the BSAI. This information was compiled by the Council's Plan Team and is presented in the final 2002 SAFE report for the BSAI groundfish fisheries, dated November 2002. The SAFE report contains a review of the latest scientific analyses and estimates of each species' biomass and other biological parameters, as well as summaries of the available information on the BSAI ecosystem and the economic condition of groundfish fisheries off Alaska. From these data and analyses, the Plan Team estimates an ABC for each species or species category.

In December 2002, the SSC, AP, and Council reviewed the Plan Team's recommendations. Except for Bogoslof pollock, sablefish, northern rockfish, Atka mackerel and the “other species” category, the SSC, AP, and Council endorsed the Plan Team's ABC recommendations. Based on the best available information, the SSC recommended slightly higher ABCs for sablefish and Atka mackerel and slightly lower ABCs for Bogoslof pollock and the “other species” category than the Plan Team recommended. For sablefish, the SSC increased the ABC from the Plan Team's recommendation based on the projected 5-year average of catches under the Council's F40%% policy. For Atka mackerel, the SSC recommended a higher, yet still conservative, ABC compared to the Plan Team. The SSC's recommendation was based on an ABC option presented by the stock assessment author that should maintain stock biomass at or near B40%%. For Bogoslof pollock, the SSC recommended using a procedure that reduces the ABC proportionately to the ratio of current stock biomass to target stock biomass. For “other species”, the SSC recommended for the 5th year, a procedure that moves gradually to a higher ABC over a 10-year period instead of a large increase in one year. For all species, the AP endorsed the ABCs recommended by the SSC, and the Council adopted them. The final ABCs, as adopted by the Council, are listed in Table 1. For northern rockfish, the SSC concluded that a reliable Bering Sea biomass estimate was not available and therefore used a more conservative procedure than the Plan Team for calculating OFLs and ABCs. This resulted in establishing separate OFLs and ABCs for the Bering Sea and Aleutian Islands subareas. At the Council meeting in January 2003, the SSC and Council received additional reports on northern rockfish biomass estimates and concluded that although variability in the estimates is high, the estimates are considered to be conservative. Thus both the SSC and Council recommended that NMFS consider following the historical approach of BSAI-wide northern rockfish OFL and ABC amounts. This was the approach proposed by NMFS (68 FR 76362, December 12, 2002) and is determined to be appropriate for this stock.

The final TAC recommendations were based on the ABCs as adjusted for other biological and socioeconomic considerations, including maintaining the total TAC within the required optimum yield (OY) range of 1.4 million to 2.0 million mt. The Council adopted the AP's TAC recommendations. None of the Council's recommended TACs for 2003 exceed the final ABC for any species category. NMFS finds that the recommended ABCs and TACs are consistent with the biological condition of groundfish stocks as described in the 2002 SAFE document that was approved by the Council.

Table 1 lists the 2003 OFL, ABC, TAC, ITAC and CDQ reserve amounts of groundfish in the BSAI. The apportionment of TAC amounts among fisheries and seasons is discussed below.

Table 1.—2003 Overfishing Level (OFL), Acceptable Biological Catch (ABC), Total Allowable Catch (TAC), Initial TAC (ITAC), and Community Development Quota (CDQ) Reserve Allocation of Groundfish in the BSAI ¹
[Amounts are in mt]
Species | Area | OFL | ABC | TAC | ITAC ² | CDQ reserve ³
Pollock ⁴ | Bering Sea (BS) | 3,530,000 | 2,330,000 | 1,491,760 | 1,342,584 | 149,176
| Aleutian Islands (AI) | 52,600 | 39,400 | 1,000 | 1,000 |
| Bogoslof District | 45,300 | 4,070 | 50 | 50 |
Pacific cod | BSAI | 324,000 | 223,000 | 207,500 | 176,375 | 15,563
Sablefish ⁵ | BS | 4,290 | 2,900 | 2,900 | 1,233 | 399
| AI | 4,590 | 3,100 | 3,100 | 659 | 523
Atka mackerel | Total | 99,700 | 63,000 | 60,000 | 51,000 | 4,500
| Western AI |  | 22,990 | 19,990 | 16,992 | 1,499
| Central AI |  | 29,360 | 29,360 | 24,956 | 2,202
| Eastern AI/BS |  | 10,650 | 10,650 | 9,053 | 799
Yellowfin sole | BSAI | 136,000 | 114,000 | 83,750 | 71,188 | 6,281
Rock sole | BSAI | 132,000 | 110,000 | 44,000 | 37,400 | 3,300
Greenland turbot | Total | 17,800 | 5,880 | 4,000 | 3,400 | 300
| BS |  | 3,920 | 2,680 | 2,278 | 201
| AI |  | 1,960 | 1,320 | 1,122 | 99
Arrowtooth flounder | BSAI | 139,000 | 112,000 | 12,000 | 10,200 | 900
Flathead sole | BSAI | 81,000 | 66,000 | 20,000 | 17,000 | 1,500
Other flatfish ⁶ | BSAI | 21,400 | 16,000 | 3,000 | 2,550 | 225
Alaska plaice | BSAI | 165,000 | 137,000 | 10,000 | 8,500 | 750
Pacific ocean perch | BSAI | 18,000 |  |  |  |
| BS |  | 2,410 | 1,410 | 1,199 | 106
| AI Total |  | 12,690 | 12,690 | 10,787 | 952
| Western AI |  | 5,850 | 5,850 | 4,973 | 439
| Central AI |  | 3,340 | 3,340 | 2,839 | 251
| Eastern AI |  | 3,500 | 3,500 | 2,975 | 263
Northern rockfish | BSAI | 9,468 | 7,101 |  |  |
| BS |  |  | 121 | 103 | 9
| AI |  |  | 5,879 | 4,997 | 441
Shortraker/rougheye | BSAI | 1,289 | 967 |  |  |
| BS |  |  | 137 | 116 | 10
| AI |  |  | 830 | 706 | 62
Other rockfish ⁷ | BS | 1,280 | 960 | 960 | 816 | 72
| AI | 846 | 634 | 634 | 539 | 48
Squid | BSAI | 2,620 | 1,970 | 1,970 | 1,675 |
Other species ⁸ | BSAI | 81,100 | 43,300 | 32,309 | 27,463 | 2,423
Total |  | 4,867,308 | 3,296,382 | 2,000,000 | 1,771,540 | 187,540
¹ These amounts apply to the entire BSAI management area unless otherwise specified. With the exception of pollock, and for the purpose of these specifications, the Bering Sea subarea includes the Bogoslof District.
² Except for pollock and the portion of the sablefish TAC allocated to hook-and-line and pot gear, 15 percent of each TAC is put into a reserve. The ITAC for each species is the remainder of the TAC after the subtraction of these reserves.
³ Except for pollock and the hook-and-line or pot gear allocation of sablefish, one half of the amount of the TACs placed in reserve, or 7.5 percent of the TACs, is designated as a CDQ reserve for use by CDQ participants (see §§ 679.20(b)(1)(iii) and 679.31).
⁴ The American Fisheries Act (AFA) requires that 10 percent of the annual Bering Sea pollock TAC be allocated as a CDQ reserve and the entire Aleutian Islands and Bogoslof District pollock ITAC be allocated as an incidental catch allowance. NMFS then subtracts 3.5 percent of the remaining Bering Sea pollock as an incidental catch allowance, which is not apportioned by season or area. The remainder of the ITAC is further allocated by sector as directed fishing allocations as follows: inshore, 50 percent; catcher/processor, 40 percent; and motherships, 10 percent.
⁵ The ITAC for sablefish reflected in Table 1 is for trawl gear only. Regulations at § 679.20(b)(1) do not provide for the establishment of an ITAC for the hook-and-line and pot gear allocation for sablefish. Twenty percent of the sablefish TAC allocated to hook-and-line gear or pot gear and 7.5 percent of the sablefish TAC allocated to trawl gear is reserved for use by CDQ participants (see § 679.20(b)(1)(iii)).
⁶ “Other flatfish” includes all flatfish species, except for Pacific halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸ “Other species” includes sculpins, sharks, skates and octopus. Forage fish, as defined at § 679.2, are not included in the “other species” category.

Reserves and the Incidental Catch Allowance (ICA) for Pollock

Regulations at § 679.20(b)(1)(i) require that 15 percent of the TAC for each target species or species group, except for the hook-and-line and pot gear allocation of sablefish, be placed in a non-specified reserve. The AFA supersedes this provision for pollock by requiring that the TAC for this species be fully allocated among the CDQ program, the ICA, and the inshore, catcher/processor, and mothership directed fishery allocations.

Regulations at § 679.20(b)(1)(iii) require that one-half of each TAC amount placed in the non-specified reserve be allocated to the groundfish CDQ reserve and that 20 percent of the hook-and-line and pot gear allocation of sablefish be allocated to the fixed gear sablefish CDQ reserve. Regulations at § 679.20(a)(5)(i)(A) also require that 10 percent of the Bering Sea subarea pollock TAC be allocated to the pollock CDQ reserve. The entire Aleutian Islands subarea and Bogoslof District pollock TAC is allocated as an ICA (§ 679.20(a)(5)(i)(A)(1)). With the exception of the hook-and-line and pot gear sablefish CDQ reserve, the regulations do not further apportion the CDQ reserves by gear. Regulations at § 679.21(e)(1)(i) also require that 7.5 percent of each PSC limit, with the exception of herring, be withheld as a PSQ reserve for the CDQ fisheries. Regulations governing the management of the CDQ and PSQ reserves are set forth at §§ 679.30 and 679.31.

Under regulations at § 679.20(a)(5)(i)(A)(1), NMFS allocates 3.5 percent of the Bering Sea subarea pollock TAC as an ICA after subtraction of the 10-percent CDQ reserve. This allowance is based on an examination of the incidental catch of pollock in non-pollock target fisheries from 1998 through 2002. During this 5-year period, the incidental catch of pollock ranged from a low of 3 percent in 1998, 2001 and 2002 to a high of 5 percent in 1999, with a 5-year average of 3 percent.

The regulations do not designate the remainder of the non-specified reserve by species or species group, and any amount of the reserve may be apportioned to a target species or to the “other species” category during the year, providing that such apportionments do not result in overfishing. The Administrator of the Alaska Region for NMFS (Regional Administrator), has determined that the ITACs specified for the species listed in Table 2 need to be supplemented from the non-specified reserve because U.S. fishing vessels have demonstrated the capacity to catch the full TAC allocations. Therefore, in accordance with § 679.20(b)(3), NMFS is apportioning the amounts shown in Table 2 from the nonspecified reserve to increase the ITAC to an amount that is equal to TAC minus the CDQ reserve.

Table 2.—Apportionment of Reserves to ITAC Categories
[Amounts are in mt]
Species—area or subarea | Reserve amount | Final ITAC
Atka mackerel—Western Aleutian district | 1,499 | 18,491
Atka mackerel—Central Aleutian district | 2,202 | 27,158
Atka mackerel—Eastern Aleutian district and Bering Sea subarea | 799 | 9,851
Other flatfish—BSAI | 225 | 2,775
Alaska plaice—BSAI | 750 | 9,250
Pacific ocean perch—Western Aleutian district | 439 | 5,411
Pacific ocean perch—Central Aleutian district | 251 | 3,090
Pacific ocean perch—Eastern Aleutian district | 263 | 3,238
Pacific cod—BSAI | 15,563 | 191,938
Shortraker/rougheye rockfish—Bering Sea subarea | 10 | 126
Shortraker/rougheye rockfish—Aleutian Islands subarea | 62 | 768
Northern rockfish—Bering Sea subarea | 9 | 112
Northern rockfish—Aleutian Islands subarea | 441 | 5,438
Other rockfish—Bering Sea subarea | 72 | 888
Other species—BSAI | 2,423 | 29,886
Total | 25,008 | 308,420

Allocation of Pollock TAC Under the AFA

Section 206(a) of the AFA requires the allocation of 10 percent of the BSAI pollock TAC as a CDQ reserve (§ 679.20(a)(5)(i)(A)). The remainder of the BSAI pollock TAC, after the subtraction of an allowance for the incidental catch of pollock by vessels (3.5 percent), including CDQ vessels, harvesting other groundfish species, is allocated as directed fishing allocations (DFA) as follows: 50 percent to catcher vessels harvesting pollock for processing by the inshore component, 40 percent to catcher/processors and catcher vessels harvesting pollock for processing by catcher/processors in the offshore component, and 10 percent to catcher vessels harvesting pollock for processing by motherships in the offshore component (§ 679.20(a)(5)(i)). These amounts are listed in Table 3.

The AFA also contains several specific requirements concerning pollock and pollock allocations. First, at § 679.20(a)(5)(i)(A)(4)(i) and (ii), NMFS will allocate 91.5 percent of the catcher/processor sector allocation to AFA catcher/processors engaged in directed fishing for pollock and 8.5 percent of the catcher/processor sector allocation to AFA catcher vessels delivering to catcher/processors unless changed by the cooperative contracts. Second, unlisted AFA catcher/processors (§ 679.4(k)(1)(2)(ii)) are limited to harvesting not more than 0.5 percent of the catcher/processor sector allocation of pollock (§ 679.20(a)(5)(i)(A)(4)(iii)).

Table 3 also lists seasonal apportionments of pollock and harvest limits within the SCA. Regulations implementing Steller sea lion protection measures at § 679.20(a)(5)(ii)(A)(1) apportion the pollock directed fishing allowances allocated to each component into two seasonal allowances. The first allowance, 40 percent of the DFA, is made available for directed fishing from January 20 to June 10 (“A” season), and the second seasonal allowance, 60 percent of the DFA, is made available from June 10 to November 1 (“B” season)(Table 3). The harvest within the SCA, as defined at § 679.22(a)(7)(vii), is limited to 28 percent of the annual DFA until April 1. The remaining 12 percent of the annual DFA allocated to the A season may be taken outside of the SCA before April 1 or inside the SCA after April 1. If 28 percent of the annual DFA is not taken inside the SCA before April 1, the remainder is available to be taken inside the SCA after April 1. The A season pollock SCA harvest limit will be apportioned to each industry sector in proportion to each sector's allocated percentage of the DFA as set forth in the AFA.

Table 3.—2003 Allocations of the Pollock TAC and Directed Fishing Allowance (DFA) to the Inshore, Catcher/Processor, Mothership, and CDQ Components ¹
[Amounts are in mt]
Area and sector | 2003 allocations | A Season ¹: A season DFA (40% of Annual DFA) | A Season ¹: SCA harvest limit ² | B Season¹: B season DFA (60% of Annual DFA)
Bering Sea subarea | 1,491,760 |  |  |
CDQ | 149,176 | 59,670 | 41,769 | 89,506
ICA ³ | 46,990 |  |  |
AFA Inshore | 647,797 | 259,119 | 181,383 | 388,678
AFA Catcher/Processors ⁴ | 518,237 | 207,295 | 145,106 | 310,942
Catch by C/Ps ⁴ | 474,187 | 189,675 |  | 284,512
Catch by CVs ⁴ | 44,050 | 17,620 |  | 26,430
Restricted C/P cap ⁵ | 2,591 | 1,036 |  | 1,555
AFA Motherships | 129,559 | 51,824 | 36,277 | 77,736
Excessive harvesting share ⁶ | 226,729 |  |  |
Aleutian Islands ICA ⁷ | 1,000 |  |  |
Bogoslof District ICA ⁷ | 50 |  |  |
¹ After subtraction for the CDQ reserve (10 percent) and the ICA (3.5 percent), the pollock TAC is allocated as a DFA: inshore component—50 percent, catcher/processor component—40 percent, and mothership component—10 percent. Under § 679.20(a)(5)(i)(A), the CDQ reserve for pollock is 10 percent. The A season, January 20—June 10, is allocated 40 percent of the DFA and the B season, June 10—November 1, is allocated 60 percent of the DFA.
² No more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³ The pollock ICA for the BS subarea is 3.5 percent of the TAC after subtraction of the CDQ reserve.
⁴ Under § 679.20(a)(5)(i)(A)(4)(i) and (ii), NMFS will allocate 91.5 percent of the catcher/processor sector allocation to AFA catcher/processors engaged in directed fishing for pollock and 8.5 percent of the catcher/processor sector allocation to AFA catcher vessels delivering to catcher/processors unless changed by the cooperative contracts.
⁵ Under § 679.20(a)(5)(i)(A)(4)(iii), unlisted AFA catcher/processors are limited to harvesting not more than 0.5 percent of the catcher/processor sector allocation of pollock.
⁶ Under § 679.20(a)(5)(i)(A)(6), NMFS establishes an excessive harvesting share limit equal to 17.5 percent of the sum of the directed fishing allowances established under paragraphs (a)(5)(i) and (a)(5)(ii) of this section.
⁷ The Aleutian Islands subarea and the Bogoslof District are closed to directed fishing for pollock. The amounts specified are for incidental catch amounts only, and are not apportioned by season or sector.

Allocation of the Atka Mackerel TAC

Regulations implementing Steller sea lion protection measures at § 679.20(a)(8)(ii) apportion the Atka mackerel ITAC into two equal seasonal allowances. After subtraction of the jig gear allocation, the first allowance is made available for directed fishing from January 1 (January 20 for trawl gear) to April 15 (“A” season), and the second seasonal allowance is made available from September 1 to November 1 (“B” season)(Table 4). Under § 679.20(a)(8)(ii)(C)(1), the Regional Administrator will establish a harvest limit area (HLA) limit of no more than 60 percent of the seasonal TAC for the Western and Central Aleutian districts.

Under § 679.20(a)(8)(i), up to 2 percent of the Eastern Aleutian district and the Bering Sea subarea Atka mackerel ITAC may be allocated to the jig gear fleet. The amount of this allocation is determined annually by the Council based on several criteria, including the anticipated harvest capacity of the jig gear fleet. The Council recommended, and NMFS approved, a 1-percent allocation of the Atka mackerel ITAC in the Eastern Aleutian district and the Bering Sea subarea to the jig gear fleet in 2003. Based on an ITAC and a reserve apportionment which together total 9,851 mt, the jig gear allocation is 99 mt.

A lottery system is used for the HLA Atka mackerel directed fisheries to reduce the amount of daily catch in the HLA by about half and to disperse the fishery over two areas (§ 679.20(a)(8)(iii)).

Table 4.—2003 Seasonal and Spatial Apportionments, Gear Shares, and CDQ Reserve of the BSAI Atka Mackerel TAC \1\
[Amounts are in mt]
Subarea & Component | TAC | CDQ reserve | ITAC | Seasonal apportionment ²: A Season ³: Total | Seasonal apportionment ²: A Season ³: HLA Limit ⁵ | Seasonal apportionment ²: B Season ⁴: Total | Seasonal apportionment ²: B Season ⁴: HLA Limit ⁵
Western Aleutian district | 19,990 | 1,499 | 18,491 | 9,245 | 5,547 | 9,245 | 5,547
Central Aleutian district | 29,360 | 2,202 | 27,158 | 13,579 | 8,147 | 13,579 | 8,147
Eastern AI/BS subarea ⁶ | 10,650 | 799 | 9,851 |  |  |  |
Jig (1%) ⁷ |  |  | 99 |  |  |  |
Other gear (99%) |  |  | 9,753 | 4,876 |  | 4,876 |
Total | 60,000 | 4,500 | 55,500 | 27,701 |  | 27,701 |
¹ Regulations at §§ 679.20(a)(8)(ii) and 679.22(a)(8) establish temporal and spatial limitations for the Atka mackerel fishery.
² The seasonal apportionment of Atka mackerel is 50 percent in the A season and 50 percent in the B season.
³ The A season is January 1 through April 15, however trawl gear is prohibited until January 20.
⁴ The B season is September 1 through November 1.
⁵ HLA limit refers to the amount of each seasonal allowance that is available for fishing inside the HLA (§ 679.2). In 2003, 60 percent of each seasonal allowance is available for fishing inside the HLA in the Western and Central Aleutian districts.
⁶ Eastern Aleutian district and the Bering Sea subarea.
⁷ Regulations at § 679.20(a)(8)(i) require that up to 2 percent of the Eastern Aleutian district and the Bering Sea subarea ITAC be allocated to the jig gear fleet. The amount of this allocation is 1 percent. The jig gear allocation is not apportioned by season.

Allocation of the Pacific Cod TAC

Under § 679.20(a)(7)(i)(A), 2 percent of the Pacific cod ITAC is allocated to vessels using jig gear, 51 percent to vessels using hook-and-line or pot gear, and 47 percent to vessels using trawl gear. Under regulations at § 679.20(a)(7)(i)(B), the portion of the Pacific cod TAC allocated to trawl gear is further allocated 50 percent to catcher vessels and 50 percent to catcher/processors. Under regulations at § 679.20(a)(7)(i)(C)(1), a portion of the Pacific cod allocated to hook-and-line or pot gear is set aside as an ICA of Pacific cod in directed fisheries for groundfish using these gear types. Based on anticipated incidental catch in these fisheries, the Regional Administrator specifies an ICA of 500 mt. The remainder of Pacific cod is further allocated to vessels using hook-and-line or pot gear as the following directed fishing allowances: 80 percent to hook-and-line catcher/processors, 0.3 percent to hook-and-line catcher vessels, 18.3 percent to pot gear vessels, and 1.4 percent to catcher vessels under 60 feet (18.3 m) length overall (LOA) using hook-and-line or pot gear.

Due to concerns about the potential impact of the Pacific cod fishery on Steller sea lions and their critical habitat, the Pacific cod fisheries are temporally dispersed by the apportionment of the ITAC into two seasonal allowances (§§ 679.23(e)(5) and 679.20(a)(7)(iii)(A)). For most non-trawl gear the first allowance of 60 percent of the ITAC is made available for directed fishing from January 1 to June 10, and the second seasonal allowance of 40 percent of the ITAC is made available from June 10 to December 31. No seasonal harvest constraints are imposed for the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season and 20 percent in the third season. The trawl catcher/processor allocation is allocated 50 percent in the first season, 30 percent in the second season, and 20 percent in the third season. Table 5 lists the 2003 allocations and seasonal apportionments of the Pacific cod ITAC. In accordance with §§ 679.20(a)(7)(ii)(D) and 679.20(a)(7)(iii)(B), any unused portion of a seasonal Pacific cod allowance will become available at the beginning of the next seasonal allowance.

Table 5.—2003 Gear Shares and Seasonal Apportionments of the BSAI Pacific Cod TAC
[Amounts are in mt]
Gear sector | Percent | Share of gear sector total (mt) | Subtotal percentages for gear sectors | Share of gear sector total (mt) | Seasonal apportionment ¹: Date | Seasonal apportionment ¹: Amount (mt)
Total hook-and-line and pot gear allocation of Pacific cod TAC | 51 | 97,888 |  |  |  |
Incidental Catch Allowance |  |  |  | 500 |  |
Catcher/Processor and Catcher Vessel sub-total |  | 97,388 |  |  |  |
Hook-and-line |  |  | 80 | 77,911 | Jan 1-Jun 10 | 46,747
Catcher/Processors |  |  |  |  | Jun 10-Dec 31 | 31,164
Hook-and-line |  |  | 0.3 | 292 | Jan 1-Jun 10 | 175
Catcher Vessels |  |  |  |  | Jun 10-Dec 31 | 117
Pot Gear Vessels |  |  | 18.3 | 17,822 | Jan 1-Jun 10 | 10,693
|  |  |  |  | Sept 1-Dec 31 | 7,129
Catcher Vessels < 60 feet LOA using hook-and-line or pot gear |  |  | 1.4 | 1,363 |  |
Trawl gear total | 47 | 90,211 |  |  |  |
Trawl Catcher Vessel |  |  | 50 | 45,105 | Jan 20-Apr 1 | 31,574
|  |  |  |  | Apr 1-Jun 10 | 4,510
|  |  |  |  | Jun 10-Nov 1 | 9,021
Trawl Catcher/Processor |  |  | 50 | 45,105 | Jan 20-Apr 1 | 22,553
|  |  |  |  | Apr 1-Jun 10 | 13,531
|  |  |  |  | Jun 10-Nov 1 | 9,021
Jig | 2 | 3,839 |  |  | Jan 1-Jun 10 | 2,303
|  |  |  |  | Jun 10-Dec 31 | 1,536
Total | 100 | 191,938 |  |  |  |
¹ For non-trawl gear the first season is allocated 60 percent of the TAC and the second season is allocated 40 percent of the TAC. No seasonal harvest constraints are imposed for the Pacific cod fishery by catcher vessels less than 60 feet (18.3 m) LOA using hook-and-line or pot gear. For trawl gear, the first season is allocated 60 percent of the TAC and the second and third seasons are each allocated 20 percent of the TAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Allocation of the Shortraker and Rougheye Rockfish TAC

Under § 679.20(a)(9), the ITAC of shortraker rockfish and rougheye rockfish specified for the Aleutian Islands subarea is allocated 30 percent to vessels using non-trawl gear and 70 percent to vessels using trawl gear. Based on the 2003 ITAC and the reserve apportionment which together total 768 mt, the trawl allocation is 538 mt and the non-trawl allocation is 230 mt.

Sablefish Gear Allocation

Regulations at § 679.20(a)(4)(iii) and (iv) require that sablefish TACs for subareas of the BSAI be allocated between trawl and hook-and-line or pot gear. Gear allocations of TACs for the Bering Sea subarea are 50 percent for trawl gear and 50 percent for hook-and-line/pot gear and for the Aleutian Islands subarea are 25 percent for trawl gear and 75 percent for hook-and-line/pot gear. Regulations at § 679.20(b)(1)(iii)(B) require that 20 percent of the hook-and-line and pot gear allocation of sablefish be apportioned to the CDQ reserve. Additionally, regulations at § 679.20(b)(1)(iii)(A) require that 7.5 percent of the trawl gear allocation of sablefish (one half of the reserve) be apportioned to the CDQ reserve. Gear allocations of the sablefish TAC and CDQ reserve amounts are specified in Table 6.

Table 6.—2003 Gear Shares and CDQ Reserve of BSAI Sablefish TACS
[Amounts are in mt]
Subarea and gear | Percent of TAC | Share of TAC (mt) | ITAC (mt) ¹ | CDQ reserve
Bering Sea subarea:
Trawl ² | 50 | 1,450 | 1,233 | 109
Hook-and-line/pot gear ³ | 50 | 1,450 | N/A | 290
Total | 100 | 2,900 | 1,233 | 399
Aleutian Islands subarea:
Trawl ² | 25 | 775 | 659 | 58
Hook-and-line/pot gear ³ | 75 | 2,325 | N/A | 465
Total | 100 | 3,100 | 659 | 523
¹ Except for the sablefish hook-and-line and pot gear allocation, 15 percent of TAC is apportioned to the reserve. The ITAC is the remainder of the TAC after the subtraction of these reserves.
² The portion of the sablefish TAC allocated to vessels using trawl gear, one half of the reserve (7.5 percent of the specified TAC) is reserved for the CDQ program.
³ For the portion of the sablefish TAC allocated to vessels using hook-and-line or pot gear, 20 percent of the allocated TAC is reserved for use by CDQ participants. Regulations in § 679.20(b)(1) do not provide for the establishment of an ITAC for sablefish allocated to hook-and-line or pot gear.

Allocation of PSC Limits for Halibut, Salmon, Crab, and Herring

PSC limits for halibut are set forth in regulations at § 679.21(e). For the BSAI trawl fisheries, the limit is 3,675 mt of halibut mortality and for non-trawl fisheries, the limit is 900 mt of halibut mortality. For chinook salmon, regulations at § 679.21(e)(1)(vii) specify a scheduled reduction of the chinook salmon PSC limit until the final limit is reached in 2004. For 2003, the chinook salmon PSC limit for the pollock fishery is 33,000 fish. PSC limits for crab and herring are specified annually based on abundance and spawning biomass.

The red king crab mature female abundance is estimated to be 18.6 million king crab and the effective spawning biomass is estimated to be 37.7 million pounds (17,100 mt) from the 2002 survey data. Based on the criteria set out at § 679.21(e)(1)(ii), the 2003 PSC limit of red king crab in Zone 1 for trawl gear is 97,000 animals as a result of the mature female abundance above 8.4 million king crab and the effective spawning biomass estimate greater than 14.5 (6,577 mt) but less than 55 million pounds (24,948 mt).

Regulations at § 679.21(e)(3)(ii)(B) establish criteria under which NMFS must specify an annual red king crab bycatch limit for the Red King Crab Savings Subarea (RKCSS). The regulations limit the RKCSS to up to 35 percent of the trawl bycatch allowance specified for the rock sole/flathead sole/“other flatfish” fishery category and must be based on the need to optimize the groundfish harvest relative to red king crab bycatch. The Council recommended, and NMFS approves, a red king crab bycatch limit equal to 35 percent of the trawl bycatch allowance specified for the rock sole/flathead sole/”other flatfish” fishery category within the RKCSS.

Based on 2002 survey data, the C. bairdi crab abundance is estimated to be 464.9 million animals. Given the criteria set out at § 679.21(e)(1)(iii), the 2003 C. bairdi crab PSC limit for trawl gear is 980,000 animals in Zone 1 and 2,970,000 animals in Zone 2 as a result of the C. bairdi crab abundance estimate of over 400 million animals.

Under § 679.21(e)(1)(iv), the PSC limit for C. opilio crab is based on total abundance as indicated by the NMFS annual bottom trawl survey. The C. opilio crab PSC limit is set at 0.1133 percent of the Bering Sea abundance index. Based on the 2002 survey estimate of 1.49 billion animals, the calculated limit is 1,169,000 animals. Because this limit is less than 4.5 million, under § 679.21(e)(1)(iv)(B), the 2003 C. opilio crab PSC limit is 4,350,000 animals.

Under § 679.21(e)(1)(vi), the PSC limit of Pacific herring caught while conducting any trawl operation for groundfish in the BSAI is 1 percent of the annual eastern Bering Sea herring biomass. NMFS' best estimate of 2003 herring biomass is 152,574 mt. This amount was derived using 2001 survey data and an age-structured biomass projection model developed by the Alaska Department of Fish and Game. Therefore, the herring PSC limit for 2003 is 1,526 mt.

Under § 679.21(e)(1)(i), 7.5 percent of each PSC limit specified for halibut and crab is allocated as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit into PSC bycatch allowances among five fishery categories. The fishery bycatch allowances for the trawl and non-trawl fisheries are listed in Table 7.

Regulations at § 679.21(e)(4)(ii) authorize exemption of specified non-trawl fisheries from the halibut PSC limit. As in past years, NMFS, after consultation with the Council, is exempting pot gear, jig gear, and the sablefish IFQ hook-and-line gear fishery categories from halibut bycatch restrictions because these fisheries use selective gear types that take few halibut compared to other gear types such as nonpelagic trawl. In 2002, total groundfish catch for the pot gear fishery in the BSAI was approximately 15,518 mt with an associated halibut bycatch mortality of about 8 mt. The 2002 groundfish jig gear fishery harvested about 172 mt of groundfish. Most vessels in the jig gear fleet are less than 60 ft (18.3 m) LOA and are exempt from observer coverage requirements. As a result, observer data are not available on halibut bycatch in the jig gear fishery. However, a negligible amount of halibut bycatch mortality is assumed because of the selective nature of this gear type and the likelihood that halibut caught with jig gear have a high survival rate when released.

As in past years, the Council recommended the sablefish IFQ fishery be exempt from halibut bycatch restrictions because of the sablefish and halibut IFQ program (subpart D of 50 CFR part 679). The sablefish IFQ program requires legal-sized halibut to be retained by vessels using hook-and-line gear if a halibut IFQ permit holder is aboard and is holding unused halibut IFQ. NMFS is approving the Council's recommendation. This action results in less halibut discard in the sablefish fishery. In 1995, about 36 mt of halibut discard mortality was estimated for the sablefish IFQ fishery. Estimates for 1996 through 2002 have not been calculated, however NMFS has no information indicating that it would be significantly different.

Regulations at § 679.21(e)(5) authorize NMFS, after consultation with the Council, to establish seasonal apportionments of PSC amounts in order to maximize the ability of the fleet to harvest the available groundfish TAC and to minimize bycatch. The factors to be considered are: (1) Seasonal distribution of prohibited species, (2) seasonal distribution of target groundfish species, (3) PSC bycatch needs on a seasonal basis relevant to prohibited species biomass, (4) expected variations in bycatch rates throughout the year, (5) expected start of fishing effort, and (6) economic effects of seasonal PSC apportionments on industry sectors. In December 2002, the Council's AP recommended seasonal PSC apportionments in order to maximize harvest among gear types, fisheries, and seasons while minimizing bycatch of PSC based upon the above criteria.

The Council adopted and NMFS approves the PSC apportionments specified in Table 7.

Table 7.—Prohibited Species Catch Allowances for the BSAI Trawl and Non-Trawl Fisheries ¹
| Prohibited Species and Zone: Halibut mortality (mt) BSAI ⁶ | Prohibited Species and Zone: Herring (mt) BSAI | Prohibited Species and Zone: Red King Crab (animals) Zone 1 | Prohibited Species and Zone: C. opilio (animals) COBLZ ² | Prohibited Species and Zone: C. bairdi (animals): Zone 1 | Prohibited Species and Zone: C. bairdi (animals): Zone 2
Trawl Fisheries
Yellowfin sole | 886 | 139 | 16,664 | 2,776,981 | 340,844 | 1,788,459
January 20—April 1 | 262 |  |  |  |  |
April 1—May 21 | 195 |  |  |  |  |
May 21—June 29 | 49 |  |  |  |  |
June 29—December 31 | 380 |  |  |  |  |
Rock sole/flat. sole/other flatfish ³ | 779 | 20 | 59,782 | 969,130 | 365,320 | 596,154
January 20—April 1 | 448 |  |  |  |  |
April 1—June 29 | 164 |  |  |  |  |
June 29—December 31 | 167 |  |  |  |  |
RKCSS ³ |  |  | 20,924 |  |  |
Turbot/sablefish/arrowtooth ⁴ |  | 9 |  | 40,238 |  |
Rockfish (June 29—Dec. 31) | 69 | 7 |  | 40,237 |  | 10,988
Pacific cod | 1,434 | 20 | 13,079 | 124,736 | 183,112 | 324,176
Pollock/Atka/other ⁵ | 232 | 146 | 200 | 72,428 | 17,224 | 27,473
Midwater trawl pollock |  | 1,184 |  |  |  |
Total Trawl PSC | 3,400 | 1,526 | 89,725 | 4,023,750 | 906,500 | 2,747,250
Non-Trawl Fisheries
Pacific cod—Total | 775 |  |  |  |  |
January 1—June 10 | 320 |  |  |  |  |
June 10—August 15 | 0 |  |  |  |  |
August 15—December 31 | 455 |  |  |  |  |
Other non-trawl—Total | 58 |  |  |  |  |
May 1—December 31 | 58 |  |  |  |  |
Groundfish pot & jig | Exempt |  |  |  |  |
Sablefish hook-&-line | Exempt |  |  |  |  |
Total Non-Trawl | 833 |  |  |  |  |
PSQ RESERVE ⁷ | 342 |  | 7,275 | 326,250 | 73,500 | 222,750
GRAND TOTAL | 4,575 | 1,526 | 97,000 | 4,350,000 | 980,000 | 2,970,000
¹ Refer to § 679.2 for definitions of areas.
² C. opilio Bycatch Limitation Zone. Boundaries are defined at 50 CFR part 679, Figure 13.
³ The Council at its December 2002 meeting recommended that red king crab bycatch for trawl fisheries within the RKCSS be limited to 35 percent of the total allocation to the rock sole, flathead sole, and other flatfish fishery category (§ 679.21(e)(3)(ii)(B)). “Other flatfish” for PSC monitoring includes all flatfish species, except for Pacific halibut (a prohibited species), greenland turbot, rock sole, yellowfin sole and arrowtooth flounder.
⁴ Greenland turbot, arrowtooth flounder, and sablefish fishery category.
⁵ Pollock other than pelagic trawl pollock, Atka mackerel, and “other species” fishery category.
⁶ With the exception of the non-trawl Pacific cod directed fishery, any unused halibut PSC apportionment may be added to the following season's apportionment. Any unused halibut PSC apportioned to the non-trawl Pacific cod directed fishery during the January 1 through June 10 time period will not be available until August 15.
⁷ With the exception of herring, 7.5 percent of each PSC limit is allocated to the CDQ program as PSQ reserve. The PSQ reserve is not allocated by fishery, gear or season.

Halibut Discard Mortality Rates

To monitor halibut bycatch mortality allowances and apportionments, the Regional Administrator will use observed halibut bycatch rates, assumed mortality rates, and estimates of groundfish catch to project when a fishery's halibut bycatch mortality allowance or seasonal apportionment is reached. The assumed mortality rates are based on the best information available, including information contained in the annual SAFE report.

The Council recommended, and NMFS concurs, that the assumed halibut discard mortality rates (DMRs) developed by the International Pacific Halibut Commission (IPHC) for the 2002 BSAI groundfish fisheries be adopted for purposes of monitoring halibut bycatch allowances established for 2003 (Table 8). In 2001, the IPHC recommended, and the Council and NMFS concurred, to use the 10-year average DMRs for the 2001 through 2003 BSAI non-CDQ groundfish fisheries. Plots of annual DMRs against the 10-year average indicated little change since 1990 for some fisheries, particularly the major trawl fisheries. DMRs were more variable for the smaller fisheries which typically take minor amounts of halibut bycatch. The IPHC also will continue to conduct annual analyses of observer data and recommend changes to the Preseason Assumed DMR where a fishery DMR shows large variation from the average. Results from analysis of halibut release condition data for 2002 showed continued stability in halibut DMRs for many fisheries. The IPHC annually examines the CDQ fisheries and provides recommendations for any appropriate DMR revisions for those fisheries. The IPHC has been calculating the CDQ fisheries DMRs since 1998 and a 10-year average is not available. The Council recommended, and NMFS concurs, with the DMRs recommended by the IPHC for 2003 CDQ fisheries. The justification for these DMRs is discussed in Appendix A of the final SAFE report dated November 2002.

Table 8.—2003 Assumed Pacific Halibut Mortality Rates For the BSAI Fisheries
Fishery | Preseason assumed mortality (percent)
Hook-and-line gear fisheries:
Greenland turbot | 18
Other species | 12
Pacific cod | 12
Rockfish | 25
Sablefish | 22
Trawl gear fisheries:
Atka mackerel | 75
Flathead sole | 67
Greenland turbot | 70
Midwater pollock | 84
Nonpelagic pollock | 76
Other flatfish | 71
Other species | 67
Pacific cod | 67
Rockfish | 69
Rock sole | 76
Sablefish | 50
Yellowfin sole | 81
Pot gear fisheries:
Other species | 8
Pacific cod | 8
CDQ trawl fisheries:
Atka mackerel | 80
Flathead sole | 90
Midwater pollock | 89
Nonpelagic pollock | 90
Rockfish | 90
Yellowfin sole | 83
CDQ hook-and-line fisheries:
Greenland turbot | 4
Pacific cod | 11
CDQ pot fisheries:
Pacific cod | 2
Sablefish | 46

Directed Fishing Closures

In accordance with § 679.20(d)(1)(i), if the Regional Administrator determines that any allocation or apportionment of a target species or “other species” category has been or will be reached, the Regional Administrator may establish a directed fishing allowance for that species or species group. If the Regional Administrator establishes a directed fishing allowance, and that allowance is or will be reached before the end of the fishing year, NMFS will prohibit directed fishing for that species or species group in the specified subarea or district (§ 697.20(d)(1)(iii)). Similarly, under § 679.21(e), if the Regional Administrator determines that a fishery category's bycatch allowance of halibut, red king crab, C. bairdi crab or C. opilio crab for a specified area has been reached, the Regional Administrator will prohibit directed fishing for each species in that category in the specified area.

The Regional Administrator has determined that the following remaining allocation amounts will be necessary as incidental catch to support other anticipated groundfish fisheries for the 2003 fishing year:

Table 9.—Directed Fishing Closures ¹
Area/species | Gear types | Incidental catch amount
Bogoslof District:
Pollock | All | 50
Aleutian Islands subarea:
Pollock | All | 1,000
Northern rockfish | All | 5,438
Shortraker/Rougheye rockfish, trawl | All | 538
Shortraker/Rougheye rockfish, non-trawl | All | 230
Other rockfish | All | 539
Bering Sea subarea:
Northern rockfish | All | 112
“Other rockfish” | All | 888
Pacific ocean perch | All | 1,199
Shortraker/rougheye rockfish | All | 126
Bering Sea Aleutian Islands:
Other species | All | 29,886
¹ The Regional Administrator has determined that the incidental catch amounts will be necessary to support other anticipated groundfish fisheries for the 2003 fishing year (§ 679.20(d)(1)(ii)(B)).

Consequently, in accordance with § 679.20(d)(1)(i), the Regional Administrator establishes the directed fishing allowances for the above species or species groups as zero.

Therefore, in accordance with § 679.20(d)(1)(iii), NMFS is prohibiting directed fishing for these species in the specified areas and these closures are effective immediately through 2400 hrs, A.l.t., December 31, 2003.

In addition, the BSAI Zone 1 annual red king crab allowance specified for the trawl rockfish fishery (§ 679.21(e)(3)(iv)(D)) is 0 mt and the BSAI first seasonal halibut bycatch allowance specified for the trawl rockfish fishery is 0 mt. The BSAI annual halibut bycatch allowance specified for the trawl Greenland turbot/arrowtooth flounder/sablefish fishery categories is 0 mt (§ 679.21(e)(3)(iv)(C)). Therefore, in accordance with § 679.21(e)(7)(ii) and (v), NMFS is prohibiting directed fishing for rockfish by vessels using trawl gear in Zone 1 of the BSAI and directed fishing for Greenland turbot/arrowtooth flounder/sablefish by vessels using trawl gear in the BSAI effective immediately through 2400 hrs, A.l.t., December 31, 2003. NMFS is also prohibiting directed fishing for rockfish outside Zone 1 in the BSAI through 1200 hrs, A.l.t., June 29, 2003.

Under authority of the interim 2003 harvest specifications (67 FR 78739, December 26, 2002), NMFS prohibited directed fishing for Atka mackerel in the Eastern Aleutian District and the Bering Sea subarea of the BSAI effective 1200 hrs, A.l.t., January 22, 2003, through 1200 hrs, A.l.t., September 1, 2003 (68 FR 2920, January 22, 2003). NMFS opened the first directed fisheries in the HLA in area 542 and area 543 effective 1200 hrs, A.l.t., January 24, 2003. The first HLA fishery in area 542 remained open through 1200 hrs, A.l.t., January 29, 2003. The first HLA fishery in area 543 remained open through 1200 hrs, A.l.t., January 28, 2003. The second directed fisheries in the HLA in area 542 and area 543 opened effective 1200 hrs, A.l.t., January 31, 2003. The second HLA fishery in area 542 remained open through 1200 hrs, A.l.t., February 5, 2003. The second HLA fishery in area 543 remained open through 1200 hrs, A.l.t., February 4, 2003. NMFS prohibited directed fishing for CDQ reserve amounts of shortraker/rougheye rockfish and northern rockfish in the Bering Sea subarea effective 1200 hrs, A.l.t., January 22, 2003, through 2400 hrs, A.l.t., December 31, 2003 (68 FR 3823, January 23, 2003). Fishing with non-pelagic trawl gear in the red king crab savings subarea of the BSAI closed February 12, 2003, through 2400 hrs, A.l.t., December 31, 2003 (68 FR 8153, February 20, 2003). NMFS prohibited directed fishing for rock sole, flathead sole, and “other flatfish” by vessels using trawl gear in the BSAI effective 1200 hrs, A.l.t., February 18, 2003, through 2400 hrs, A.l.t., April 1, 2003 (68 FR 8726, February 25, 2003).

These closures remain effective under authority of the final 2003 harvest specifications.

These closures supersede the closures announced in the 2003 interim specifications (67 FR 78739, December 26, 2002). While these closures are in effect, the maximum retainable amounts at § 679.20(e) and (f) apply at any time during a fishing trip. These closures to directed fishing are in addition to closures and prohibitions found in regulations at § 679. In the BSAI, “other rockfish” includes Sebastes and Sebastolobus species except for Pacific ocean perch, shortraker, rougheye, and northern rockfish.

Bering Sea Subarea Inshore Pollock Allocations

Regulations at § 679.4(l), set forth procedures for AFA inshore catcher vessel pollock cooperatives to apply for and receive cooperative fishing permits and inshore pollock allocations. NMFS received applications from seven inshore catcher vessel cooperatives. Table 10 lists the pollock allocations to the seven inshore catcher vessel pollock cooperatives based on 2003 cooperative allocations that have been approved and permitted by NMFS for the 2003 fishing year. Allocations for cooperatives and vessels not participating in cooperatives are not made for the AI subarea because the AI subarea has been closed to directed fishing for pollock.

Table 10.—2003 Bering Sea Subarea Inshore Cooperative Allocations
Cooperative name and member vessels | Sum of member vessel's official catch histories ¹ (mt) | Percentage of inshore sector allocation (percent) | Annual co-op allocation (mt)
Akutan Catcher Vessel Association | 245,527 | 28.085 | 181,932
ALDEBARAN, ARCTIC EXPLORER, ARCTURUS, BLUE FOX, CAPE KIWANDA, COLUMBIA, DOMINATOR, EXODUS, FLYING CLOUD, GOLDEN DAWN, GOLDEN PISCES, HAZEL LORRAINE, INTREPID EXPLORER, LESLIE LEE, LISA MELINDA, MAJESTY, MARCY J, MARGARET LYN, NORDIC EXPLORER, NORTHERN PATRIOT, NORTHWEST EXPLORER, PACIFIC RAM, PACIFIC VIKING, PEGASUS, PEGGY JO, PERSEVERANCE, PREDATOR, RAVEN, ROYAL AMERICAN, SEEKER, SOVEREIGNTY, TRAVELER, VIKING EXPLORER
Arctic Enterprise Association | 36,807 | 4.210 | 27,273
BRISTOL EXPLORER, OCEAN EXPLORER, PACIFIC EXPLORER
Northern Victor Fleet Cooperative | 73,656 | 8.425 | 54,578
ANITA J, COLLIER BROTHERS, COMMODORE, EXCALIBUR II, GOLDRUSH, HALF MOON BAY, MISS BERDIE, NORDIC FURY, PACIFIC FURY, POSEIDON, ROYAL ATLANTIC, SUNSET BAY, STORM PETREL
Peter Pan Fleet Cooperative | 18,693 | 2.138 | 13,851
AMBER DAWN, AMERICAN BEAUTY, ELIZABETH F, MORNING STAR, OCEAN LEADER, OCEANIC, PROVIDIAN, TOPAZ, WALTER N
Unalaska Cooperative | 106,737 | 12.209 | 79,091
ALASKA ROSE, BERING ROSE, DESTINATION, GREAT PACIFIC, MESSIAH, MORNING STAR, MS AMY, PROGRESS, SEA WOLF, VANGUARD, WESTERN DAWN
UniSea Fleet Cooperative | 201,566 | 23.056 | 149,357
ALSEA, AMERICAN EAGLE, ARGOSY, AURIGA, AURORA, DEFENDER, GUN-MAR, NORDIC STAR, PACIFIC MONARCH, SEADAWN, STARFISH, STARLITE
Westward Fleet Cooperative | 189,942 | 21.727 | 140,744
A.J., ALASKAN COMMAND, ALYESKA, ARCTIC WIND, CAITLIN ANN, CHELSEA K, DONA MARTITA, FIERCE ALLEGIANCE, HICKORY WIND, OCEAN HOPE 3, PACIFIC CHALLENGER, PACIFIC KNIGHT, PACIFIC PRINCE, STARWARD, VIKING, WESTWARD I
Open access AFA vessels | 1,309 | 0.150 | 970
Total inshore allocation | 874,238 | 100 | 647,797
¹ According to regulations that will be effective with the final rule to implement major provisions of the AFA at 679.62(e)(1) the individual catch history for each vessel is equal to the vessel's best 2 of 3 years inshore pollock landings from 1995 through 1997 and includes landings to catcher/processors for vessels that made 500 or more mt of landings to catcher/processors from 1995 through 1997.

According to regulations at § 679.20(a)(5)(i)(A)(3), NMFS must subdivide the inshore allocation into allocations for cooperatives and vessels not fishing in a cooperative (i.e., the open access sector). In addition, under § 679.22(a)(7)(vii), NMFS must establish harvest limits inside the SCA and provide a set-aside so that catcher vessels less than or equal to 99 ft (30.2 m) LOA have the opportunity to operate entirely within the SCA during the A season. Accordingly, Table 11 lists the apportionment of the Bering Sea subarea inshore pollock allocation into allocations for vessels fishing in a cooperative and allocations for vessels not participating in a cooperative and establishes a cooperative-sector SCA set-aside for AFA catcher vessels less than or equal to 99 ft (30.2 m) LOA. The SCA set-aside for sector catcher vessels less than or equal to 99 ft (30.2 m) LOA that are not participating in a cooperative will be established inseason based on actual participation levels and is not included in Table 11. These allocations may be revised based on any corrections to AFA vessels' catch history.

Table 11.—2003 Bering Sea Subarea Pollock Allocations To The Cooperative and Open Access Sectors of the Inshore Pollock Fishery
[Amounts are in mt]
| A season TAC | SCA harvest limit ¹,² | B season TAC
Cooperative sector:
Vessels >99 ft | n/a | 155,616 | n/a
Vessels ≤99 ft | n/a | 25,495 | n/a
Total | 258,731 | 181,111 | 388,096
Open access sector | 388 | 272 | 582
Total inshore | 259,119 | 181,383 | 388,678
¹ Steller sea lion conservation area established at § 679.22(a)(7)(vii).
² The SCA harvest limits for vessels less than or equal to 99 ft LOA that are not participating in a cooperative will be established on an inseason basis in accordance with § 679.22(a)(7)(vii)(C)(2) which specifies that “the Regional Administrator will prohibit directed fishing for pollock by vessels catching pollock for processing by the inshore component greater than 99 ft (30.2 m) LOA before reaching the inshore SCA harvest limit during the A season to accommodate fishing by vessels less than or equal to 99 ft (30.2 m) inside the SCA for the duration of the inshore seasonal opening.”

Listed AFA Catcher/processor Sideboard Limits

In 2003, the formula for setting AFA catcher/processor sideboard limits for non-pollock groundfish changed from calculations made for the sideboard limits in 2000 through 2002. The Council made a distinction between retained and total catch for the purpose of calculating sideboard limits and determined that AFA vessels should not receive sideboard credit for groundfish that were discarded and not utilized. Under regulations at § 679.64(a), the listed catcher/processor sideboard limits for BSAI groundfish (except Atka mackerel, Pacific cod, and some Pacific ocean perch) will be based on the 1995 through 1997 retained catch of such groundfish species by the 20 AFA catcher/processors listed in paragraphs 208(e)(1) through (20) of the AFA and the nine ineligible catcher/processors listed in section 209 of the AFA. For Pacific cod, the sideboard limit will be based on 1997 retained catch only and for Pacific ocean perch in the Aleutian Islands subarea, the sideboard limits will be based on 1996 and 1997 retained catch only. The AFA catcher/processor sideboard limit for Atka mackerel is zero percent of the Bering Sea subarea and Eastern Aleutians annual TAC, 11.5 percent of the Central Aleutian districts annual TAC, and 20 percent of the Western Aleutian districts annual TAC.

The basis for these sideboard limits is described in detail in the final rule implementing major provisions of the AFA (67 FR 79692, December 30, 2002). The 2003 catcher/processor sideboard limits are set out in Table 12.

All non-pollock groundfish that is harvested by listed AFA catcher/processors, whether as targeted catch or incidental catch, will be deducted from the sideboard limits in Table 12. However, non-pollock groundfish that are delivered to listed catcher/processors by catcher vessels will not be deducted from the 2003 sideboard limits for the listed catcher/processors.

Table 12.—2003 Listed BSAI AFA Catcher/Processor Groundfish Sideboard Limits
[Amounts are in mt]
Target species | Area | 1995—1997: Retained catch | 1995—1997: Available TAC | 1995—1997: Ratio | 2003 ITAC available to trawl C/Ps | 2003 C/P sideboard limit
Pacific cod trawl | BSAI | 12,424 | 51,450 | 0.241 | 45,105 | 10,870
Sablefish trawl | BS | 8 | 1,736 | 0.005 | 1,233 | 6
| AI | 0 | 1,135 | 0.000 | 659 | 0
Atka mackerel | Western AI |  |  |  |  |
| A season¹ | n/a | n/a | 0.200 | 9,245 | 1,849
| HLA limit ² |  |  |  |  | 1,109
| B season¹ | n/a | n/a | 0.200 | 9,245 | 1,849
| HLA limit ² |  |  |  |  | 1,109
| Central AI |  |  |  |  |
| A season¹ | n/a | n/a | 0.115 | 13,579 | 1,562
| HLA limit ² |  |  |  |  | 937
| B season¹ | n/a | n/a | 0.115 | 13,579 | 1,562
| HLA limit² |  |  |  |  | 937
Yellowfin sole | BSAI | 100,192 | 527,000 | 0.190 | 71,188 | 13,526
Rock sole | BSAI | 6,317 | 202,107 | 0.031 | 37,400 | 1,159
Greenland turbot | BS | 121 | 16,911 | 0.007 | 2,278 | 16
| AI | 23 | 6,839 | 0.003 | 1,122 | 3
Arrowtooth flounder | BSAI | 76 | 36,873 | 0.002 | 10,200 | 20
Flathead sole | BSAI | 1,925 | 87,975 | 0.022 | 17,000 | 374
Alaska plaice | BSAI | 3,243 |  | 0.035 | 9,250 | 324
Other flatfish | BSAI | 3,243 | 92,428 | 0.035 | 2,775 | 97
Pacific ocean perch | BS | 12 | 5,760 | 0.002 | 1,199 | 2
| Western AI | 54 | 12,440 | 0.004 | 5,411 | 22
| Central AI | 3 | 6,195 | 0.000 | 3,090 | 0
| Eastern AI | 125 | 6,265 | 0.020 | 3,238 | 65
Northern rockfish | BS | 8 |  | 0.008 | 112 | 1
| AI | 83 | 13,254 | 0.006 | 5,438 | 33
Shortraker/rougheye | BS | 8 |  | 0.008 | 126 | 1
| AI | 42 | 2,827 | 0.015 | 538 | 8
Other rockfish | BS | 18 | 1,026 | 0.018 | 888 | 16
| AI | 22 | 1,924 | 0.011 | 539 | 6
Squid | BSAI | 73 | 3,670 | 0.020 | 1,675 | 34
Other species | BSAI | 553 | 65,925 | 0.008 | 29,886 | 239
¹ The seasonal apportionment of Atka mackerel in the open access fishery is 50 percent in the A season and 50 percent in the B season. Unrestricted AFA catcher/processors are limited to incidental catch amounts in the Eastern Aleutian district and Bering Sea subarea, 20 percent of the available TAC in the Western Aleutian district, and 11.5 percent of the available TAC in the Central Aleutian district.
² HLA limit refers to the amount of each seasonal allowance that is available for fishing inside the HLA (§ 679.2). In 2003, 60 percent of each seasonal allowance is available for fishing inside the HLA in the Western and Central Aleutian districts. Pacific cod harvest by trawl gear in the Aleutian Islands HLA, west of 178 degrees W. long. is prohibited during the Atka mackerel HLA directed fisheries.

Regulations at § 679.64(a)(5) establish a formula for PSC sideboard limits for listed AFA catcher/processors. These amounts are equivalent to the percentage of the PSC amounts taken in the non-pollock groundfish fisheries by the AFA catcher/processors listed in subsection 208(e) and section 209 of the AFA from 1995 through 1997. PSC amounts taken by listed catcher/processors in BSAI non-pollock groundfish fisheries from 1995 through 1997 are shown in Table 13. These data were used to calculate the relative amount of PSC limits by pollock catcher/processors, that were then used to determine the PSC sideboard limits for listed AFA catcher/processors in the 2003 non-pollock groundfish fisheries.

PSC that is caught by listed AFA catcher/processors participating in any non-pollock groundfish fishery listed in Table 13 would accrue against the 2003 PSC limits for the listed AFA catcher/processors. Regulations at § 679.21(e)(3)(v) authorize NMFS to close directed fishing for non-pollock groundfish for listed AFA catcher/processors once a 2003 PSC limit listed in Table 13 is reached.

Crab or halibut PSC that is caught by listed AFA catcher/processors while fishing for pollock will accrue against the bycatch allowances annually specified for either the midwater pollock or the pollock/Atka mackerel/other species fishery categories under regulations at § 679.21(e).

Table 13.—2003 Listed BSAI AFA Catcher/Processor Prohibited Species Catch Sideboard Limits ¹
PSC species | 1995-1997: PSC catch | 1995-1997: Total PSC | 1995-1997: Ratio | 2003 PSC available to trawl vessels | 2003 C/P PSC sideboard limit
Halibut mortality | 955 | 11,325 | 0.084 | 3,400 | 286
Red king crab | 3,098 | 473,750 | 0.007 | 89,725 | 628
C. opilio | 2,323,731 | 15,139,178 | 0.153 | 4,023,750 | 615,634
C. bairdi
Zone 1 | 385,978 | 2,750,000 | 0.140 | 906,500 | 126,910
Zone 2 | 406,860 | 8,100,000 | 0.050 | 2,747,250 | 137,363
¹ Halibut amounts are in metric tons of halibut mortality. Crab amounts are in numbers of animals.

AFA Catcher Vessel Sideboard Limits

Regulations at § 679.64(b) establish formulas for setting AFA catcher vessel groundfish and PSC sideboard limits for the BSAI. The basis for these sideboard limits is described in detail in the final rule implementing major provisions of the AFA (67 FR 79692, December 30, 2002). The 2003 AFA catcher vessel sideboard limits are shown in Tables 14 and 15.

All harvests of groundfish sideboard species made by non-exempt AFA catcher vessels, whether as targeted catch or incidental catch, will be deducted from the sideboard limits listed in Table 14.

Table 14.—2003 BSAI AFA Catcher Vessel (CV) Sideboard Limits
[Amounts are in mt]
Species | Fishery by area/season/processor/gear | Ratio of 1995-1997 AFA CV catch to 1995-1997 TAC | 2003 Initial TAC | 2003 catcher vessel sideboard limit
Pacific cod | BSAI
| jig gear | 0.0000 | 3,839 | 0
|  | hook-and-line CV
| Jan 1-Jun 10 | 0.0006 | 175 | 0
| Jun 10-Dec 31 | 0.0006 | 117 | 0
| pot gear
| Jan 1-Jun 10 | 0.0006 | 10,693 | 6
| Sept 1-Dec 31 | 0.0006 | 7,129 | 4
| CV < 60 feet LOA | 0.0006 | 1,363 | 0
| using hook-and-line or pot gear
| trawl gear
| catcher vessel
| Jan 20-Apr 1 | 0.8609 | 31,574 | 27,182
| Apr 1-Jun 10 | 0.8609 | 4,510 | 3,883
| Jun 10-Nov 1 | 0.8609 | 9,021 | 7,766
Sablefish | BS trawl gear | 0.0906 | 1,233 | 112
| AI trawl gear | 0.0645 | 659 | 43
Atka mackerel | Eastern AI/BS
| jig gear | 0.0031 | 99 | 0
| other gear
| Jan 1-Apr 15 | 0.0032 | 4,876 | 16
| Sept 1-Nov 1 | 0.0032 | 4,876 | 16
| Central AI
| Jan 1-Apr 15 | 0.0001 | 13,579 | 1
| HLA limit | 0.0001 | 8,147 | 1
| Sept 1-Nov 1 | 0.0001 | 13,579 | 1
| HLA limit | 0.0001 | 8,147 | 1
| Western Al
| Jan 1-Apr 15 | 0.0000 | 9,245 | 0
| HLA limit | 0.0000 | 5,547 | 0
| Sept 1-Nov 1 | 0.0000 | 9,245 | 0
| HLA limit | 0.0000 | 5,547 | 0
Yellowfin sole | BSAI | 0.0647 | 71,188 | 4,606
Rock sole | BSAI | 0.0341 | 37,400 | 1,275
Greenland turbot | BS | 0.0645 | 2,278 | 147
| Al | 0.0205 | 1,122 | 23
Arrowtooth flounder | BSAI | 0.0690 | 10,200 | 704
Aalaska plaice | BSAI | 0.0441 | 9,250 | 408
Other flatfish | BSAI | 0.0441 | 2,775 | 122
Pacific ocean perch | BS | 0.1000 | 1,199 | 120
| Eastern AI | 0.0077 | 3,238 | 25
| Central AI | 0.0025 | 3,090 | 8
| Western AI | 0.0000 | 5,411 | 0
Northern rockfish | BS | 0.0280 | 112 | 3
| AI | 0.0089 | 5,438 | 48
Shortraker/Rougheye | BS | 0.0048 | 126 | 1
| AI | 0.0035 | 768 | 3
Other rockfish | BS | 0.0048 | 888 | 4
| AI | 0.0095 | 539 | 5
Squid | BSAI | 0.3827 | 1,675 | 641
Other species | BSAI | 0.0541 | 29,886 | 1,617
Flathead sole | BS trawl gear | 0.0505 | 17,000 | 859

The AFA catcher vessel PSC limit for halibut and each crab species in the BSAI for which a trawl bycatch limit has been established, will be a portion of the PSC limit equal to the ratio of aggregate retained groundfish catch by AFA catcher vessels in each PSC target category from 1995 through 1997 relative to the retained catch of all vessels in that fishery from 1995 through 1997. For the BSAI, the PSC sideboard limits are listed in Table 15.

Halibut and crab PSC that are caught by AFA catcher vessels participating in any non-pollock groundfish fishery listed in Table 15 will accrue against the 2003 PSC limits for the AFA catcher vessels. Regulations at § 679.21(d)(8) and (e)(3)(v) provide authority to close directed fishing for non-pollock groundfish for AFA catcher vessels once a 2003 PSC limit listed in Table 15 for the BSAI is reached. PSC that is caught by AFA catcher vessels while fishing for pollock in the BSAI will accrue against the bycatch allowances annually specified for either the midwater pollock or the pollock/Atka mackerel/other species fishery categories under regulations at § 679.21(e).

Table 15.—2003 AFA Catcher Vessel Prohibited Species Catch Sideboard Limits for the BSAI ¹
PSC species | Target fishery category ² | Ratio of 1995-1997 AFA CV retained catch to total retained catch | 2003 PSC limit | 2003 AFA catcher vessel PSC sideboard limit
Halibut | Pacific cod trawl | 0.6183 | 1,434 | 887
| Pacific cod hook-and-line or pot | 0.0022 | 775 | 2
| Yellowfin sole
| January 20—April 1 | 0.1144 | 262 | 30
| April 1—May 21 | 0.1144 | 195 | 22
| May 21—June 29 | 0.1144 | 49 | 6
| June 29—December 31 | 0.1144 | 380 | 43
| Rock sole/flathead sole/other flatfish ⁵
| January 20—April 1 | 0.2841 | 448 | 127
| April 1—June 29 | 0.2841 | 164 | 47
| June 29—December 31 | 0.2841 | 167 | 47
| Turbot/Arrowtooth/sablefish | 0.2327 | 0 | 0
| Rockfish | 0.0245 | 69 | 2
| Pollock/Atka mackerel/Other species | 0.0227 | 232 | 5
Red King Crab | Pacific cod | 0.6183 | 13,079 | 8,087
Zone 1 ⁴ | Yellowfin sole | 0.1144 | 16,664 | 1,906
| Rock sole/flathead sole/other flatfish ⁵ | 0.2841 | 59,782 | 16,984
| Pollock/Atka mackerel/Other species | 0.0227 | 200 | 5
C. opilio | Pacific cod | 0.6183 | 124,736 | 77,124
COBLZ ³ | Yellowfin sole | 0.1144 | 2,776,981 | 317,687
| Rock sole/flathead sole/other flatfish ⁵ | 0.2841 | 969,130 | 275,330
| Pollock/Atka mackerel/Other species | 0.0227 | 72,428 | 1,644
| Rockfish | 0.0245 | 40,237 | 986
| Turbot/Arrowtooth/sablefish | 0.2327 | 40,238 | 9,363
C. bairdi | Pacific cod | 0.6183 | 183,112 | 113,218
Zone 1 | Yellowfin sole | 0.1144 | 340,844 | 38,993
| Rock sole/flathead sole/other flatfish ⁵ | 0.2841 | 365,320 | 103,787
| Pollock/Atka mackerel/Other species | 0.0227 | 17,224 | 391
C. bairdi | Pacific cod | 0.6183 | 324,176 | 200,438
Zone 2 | Yellowfin sole | 0.1144 | 1,788,459 | 204,600
| Rock sole/flathead sole/other flatfish ⁵ | 0.2841 | 596,154 | 169,367
| Pollock/Atka mackerel/Other species | 0.0227 | 27,473 | 624
| Rockfish | 0.0245 | 10,988 | 269
¹ Halibut amounts are in metric tons of halibut mortality. Crab amounts are in numbers of animals.
² Target fishery categories are defined in regulation at § 679.21(e)(3)(iv).
³ C. opilio Bycatch Limitation Zone. Boundaries are defined at Figure 13 of 50 CFR part 679.
⁴ The Council at its December 2002 meeting recommended that red king crab bycatch for trawl fisheries within the RKCSS be limited to 35 percent of the total allocation to the rock sole/flathead sole/'other flatfish” fishery category (§ 679.21(e)(3)(ii)(B)).
⁵ “Other flatfish” for PSC monitoring includes all flatfish species, except for Pacific halibut (a prohibited species), Greenland turbot, rock sole, yellowfin sole, and arrowtooth flounder.

Sideboard Directed Fishing Closures

AFA Catcher/Processor and Catcher Vessel Sideboard Closures

The Regional Administrator has determined that many of the AFA catcher/processor and catcher vessel sideboard limits listed in Tables 12 and 14 are necessary as incidental catch to support other anticipated groundfish fisheries for the 2003 fishing year. In accordance with § 679.20(d)(1)(iv), the Regional Administrator establishes the sideboard limits listed in Tables 12 and 14 as directed fishing allowances. The Regional Administrator finds that many of these directed fishing allowances will be reached before the end of the year. Therefore, in accordance with § 679.20(d)(1)(iii), NMFS is prohibiting directed fishing by listed AFA catcher/processors for the species in the specified areas set out in Table 16 and directed fishing by non-exempt AFA catcher vessels for the species in the specified areas set out in Table 17.

Table 16.—AFA Listed Catcher/Processor Sideboard Directed Fishing Closures ¹
Species | Area | Gear types | Incidental catch amount
Sablefish trawl | BS | Trawl | 6
| AI | Trawl | 0
Rock sole | BSAI | all | 1,159
Greenland turbot | BS | all | 16
| AI | all | 3
Arrowtooth flounder | BSAI | all | 20
Pacific ocean perch | BS | all | 2
| Western AI | all | 22
| Central AI | all | 0
| Eastern AI | all | 65
Northern rockfish | BS | all | 1
| AI | all | 33
Shortraker/Rougheye rockfish | BS | all | 1
| AI | all | 8
Other rockfish | BS | all | 16
| AI | all | 6
Squid | BSAI | all | 34
Other species | BSAI | all | 239
¹ Maximum retainable percentages may be found in Table 11 to 50 CFR part 679.

Table 17.—AFA Catcher Vessel Sideboard Directed Fishing Closures ¹
Species | Area | Gear | Incidental catch amount
Pacific cod | BSAI | hook-and-line | 0
| BSAI | pot | 10
| BSAI | jig | 0
Sablefish | BS | trawl | 112
| AI | trawl | 43
Atka mackerel | Eastern AI/BS | jig | 0
| Eastern AI/BS | other | 32
| Central AI | all | 2
| Western AI | all | 0
Greenland Turbot | BS | all | 147
| AI | all | 23
Arrowtooth flounder | BSAI | all | 704
Pacific ocean perch | BS | all | 120
| Western AI | all | 0
| Central AI | all | 8
| Eastern AI | all | 25
Northern rockfish | BS | all | 3
| AI | all | 48
Shortraker/Rougheye rockfish | BS | all | 1
| AI | all | 3
Other rockfish | BS | all | 4
| AI | all | 5
Squid | BSAI | all | 641
Other species | BSAI | all | 1,617
¹ Maximum retainable percentages may be found in Table 11 to 50 CFR part 679.

Response to Comments

NMFS received one letter of comment in response to the proposed 2003 harvest specifications (67 FR 76362, December 12, 2002.)

Comment 1. A request for an extension of time in which to comment on the document.

Response. Regulations at 50 CFR 679.20(c)(1)(i)(B) provide for a 30-day comment period on the proposed specifications. NMFS has determined that an extension of the 30-day comment period on the proposed harvest specifications would pose unacceptable management implications for the 2003 groundfish fisheries. Without proposed and interim specifications in effect on January 1, the groundfish fisheries would not be able to open on that date, which would result in unnecessary closures and disruption within the fishery industry. Therefore, NMFS declines to extend the comment period on the proposed specifications.

Small Entity Compliance Guide

The following information is a plain language guide to assist small entities in complying with this final rule as required by the Small Business Regulatory Enforcement Fairness Act of 1996. This final rule's primary management measures are to announce final 2003 harvest specifications and prohibited species bycatch allowances for the groundfish fishery of the BSAI. This action is necessary to establish harvest limits and associated management measures for groundfish during the 2003 fishing year and to accomplish the goals and objectives of the Fishery Management Plan for the Groundfish Fishery of the Bering Sea and Aleutian Islands Area. This action affects all fishermen who participate in the BSAI fishery. NMFS will announce closures of directed fishing in the Federal Register and in information bulletins released by the Alaska Region. Affected fishermen should keep themselves informed of such closures.

Classification

This action is authorized under 50 CFR 679.20 and is exempt from review under Executive Order 12866.

NMFS prepared an Initial Regulatory Flexibility Analysis (IRFA) that describes the impact the 2003 harvest specifications may have on small entities, in accordance with the provisions of the Regulatory Flexibility Act of 1980, as amended by the Small Business Regulatory Enforcement Fairness Act of 1996 (5 U.S.C. 603(b)). Notice of the availability of the IRFA, and a summary, were published in the classification section of the proposed harvest specifications for the groundfish fisheries in the BSAI in the Federal Register on December 12, 2002 (67 FR 76362). The comment period on the proposed BSAI harvest specifications and IRFA ended on January 13, 2003. NMFS did not receive any comments on the IRFA. NMFS has prepared a FRFA for this action and a copy is available from the Council (see ADDRESSES).

The small entities affected by this action are those that harvest fish under the terms of the specifications in the BSAI. The FRFA identified 193 small catcher vessels, 31 small catcher/processors, and six small CDQ groups.

No projected additional reporting, recordkeeping or other compliance requirements were identified in connection with the final notice of specifications.

Four alternatives were evaluated, in addition to the preferred alternative. Alternatives were defined by the use of different harvest rates (F values). Impacts of the alternatives were estimated on the basis of their associated overall fleet gross revenue levels. Three alternatives (set F equal to 50% of max FABC, set F equal to the most recent five year average actual F, and set F equal to zero) all appeared to have greater adverse impacts on small entities than the preferred alternative. Alternative 1 (set F equal to max FABC) had impacts on small entities that appeared to be similar to those of the preferred alternative. However, this alternative was not chosen because it used 2002 TACs, which do not take into consideration biological survey information collected and analyzed in 2002, and evaluated by the Council and its SSC and AP committees at the end of 2002. The preferred alternative was chosen, rather than Alternative 1, because the TACs in the preferred alternative take into account the best and most recent information available regarding the status of the groundfish stocks, public testimony, and socio-economic concerns.

The apportionment of a portion of the nonspecified reserve (see Table 2) is necessary to provide increased ITAC to provide for more efficient operation of intensive fast-paced fisheries for Pacific cod, Atka mackerel and Pacific ocean perch, and to allow for the orderly conduct of the flatfish and rockfish fisheries. Also, U.S. fishing vessels have demonstrated the capacity to catch the full TAC allocations. Therefore, a delay for prior notice and public procedure is contrary to the public interest. Accordingly, the Assistant Administrator for Fisheries, NOAA (AA), finds there is good cause to waive the requirement for prior notice under 5 U.S.C. 553(b)(3). In accordance with 50 CFR 679(b)(3), comments on the apportionment of reserves are invited by March 18, 2003.

In some cases, the interim specifications currently in effect are not sufficient to allow directed fisheries to continue, resulting in unnecessary closures and disruption within the fishing industry. This action establishes the harvest specifications for the 2003 fisheries in the BSAI. Hence, the action must be effective immediately to provide consistent, uninterrupted management and conservation of fishery resources and to allow the fishing industry to plan its fishing operations. Accordingly, the Assistant Administrator for Fisheries, NOAA, finds there is good cause under 5 U.S.C. 553(d)(3) to waive the 30-day delay in the effective date.

This action must be effective immediately to provide consistent management and conservation of fishery resources and to give the fishing industry the earliest possible opportunity to plan its fishing operations. Accordingly, the AA finds there is good cause under 5 U.S.C. 553(d)(3) to waive the 30-day delay of the effective date.

Authority: 16 U.S.C. 773 et seq. 16 U.S.C. 1801 et seq., and 3631 et seq.

Dated: February 24, 2003.
Rebecca Lent,
Deputy Assistant Administrator for Regulatory Programs, National Marine Fisheries Service.

[FR Doc. 03-4815 Filed 2-25-03; 3:57 pm]

BILLING CODE 3510-22-P